DEPARTMENT OF COMMERCE

National Oceanic and Atmospheric Administration

50 CFR Part 665

[Docket No. 150715616-6300-02]

RIN 0648-XE062

Pacific Island Fisheries; 2015-16 Annual Catch Limits and Accountability Measures; Main Hawaiian Islands Deep 7 Bottomfish

AGENCY: National Marine Fisheries Service (NMFS), National Oceanic and Atmospheric Administration (NOAA), Commerce.

ACTION: Final specifications.

SUMMARY: NMFS specifies an annual catch limit (ACL) of 326,000 lb for Deep 7 bottomfish in the main Hawaiian Islands (MHI) for the 2015-16 fishing year. As an accountability measure (AM), if the ACL is projected to be reached, NMFS would close the commercial and non-commercial fisheries for MHI Deep 7 bottomfish for the remainder of the fishing year. The ACL and AM specifications support the long-term sustainability of Hawaii bottomfish.

DATES: The final specifications are effective from May 9, 2016, through August 31, 2016.

ADDRESSES: Copies of the Fishery Ecosystem Plan for the Hawaiian Archipelago are available from the Western Pacific Fishery Management Council (Council), 1164 Bishop St., Suite 1400, Honolulu, HI 96813, tel. 808-522-8220, fax 808-522-8226, or www.wpcouncil.org. Copies of the environmental assessment and finding of no significant impact for this action, identified by NOAA-NMFS-2015-0090, are available from www.regulations.gov, or from Michael D. Tosatto, Regional Administrator, NMFS Pacific Islands Region (PIR), 1845 Wasp Blvd., Bldg. 176, Honolulu, HI 96818.

FOR FURTHER INFORMATION CONTACT: Matthew Dunlap, NMFS PIR Sustainable Fisheries, 808-725-5177.

SUPPLEMENTARY INFORMATION: Through this action, NMFS is specifying an ACL of 326,000 lb of Deep 7 bottomfish in the MHI for the 2015-16 fishing year. The Council recommended this ACL, based on the best available scientific, commercial, and other information, taking into account the associated risk of overfishing. This ACL is 20,000 lb lower than the ACL set for the 2014-15 fishing year. The MHI Management Subarea is the portion of U.S. Exclusive Economic Zone around the Hawaiian Archipelago lying to the east of 161°20′ W. longitude. The Deep 7 bottomfish consist of onaga (Etelis coruscans), ehu (E. carbunculus), gindai (Pristipomoides zonatus), kalekale (P. sieboldii), opakapaka (P. filamentosus), lehi (Aphareus rutilans), and hapuupuu (Hyporthodus quernus).

The MHI bottomfish fishing year started September 1, 2015, and is currently open. NMFS will monitor the fishery, and if the fishery reaches the ACL before August 31, 2016, NMFS will, as an associated accountability measure authorized in 50 CFR 665.4(f), close the non-commercial and commercial fisheries for Deep 7 bottomfish in Federal waters through August 31. During a fishery closure for Deep 7 bottomfish, no person may fish for, possess, or sell any of these fish in the MHI. There is no prohibition on fishing for or selling other (non-Deep 7) bottomfish throughout the year. All other management measures continue to apply in the MHI bottomfish fishery.

You may review additional background information on this action in the preamble to the proposed specifications (81 FR 8884; February 23, 2016); we do not repeat that information here.

Comments and Responses

The comment period for the proposed specifications ended on March 9, 2016. NMFS received no public comments.

Changes From the Proposed Specifications

There are no changes in the final specifications from the proposed specifications.

Classification

The Regional Administrator, NMFS PIR, determined that this action is necessary for the conservation and management of MHI Deep 7 bottomfish, and that it is consistent with the Magnuson-Stevens Fishery Conservation and Management Act and other applicable laws.

The Chief Counsel for Regulation of the Department of Commerce certified to the Chief Counsel for Advocacy of the Small Business Administration during the proposed specification stage that this action would not have a significant economic impact on a substantial number of small entities. NMFS published the factual basis for certification in the proposed specifications, and does not repeat it here. NMFS did not receive comments regarding this certification. As a result, a final regulatory flexibility analysis is not required, and one was not prepared.

This action is exempt from review under Executive Order 12866.

Authority: 16 U.S.C. 1801 et seq.

Dated: April 1, 2016.
Samuel D. Rauch,
Deputy Assistant Administrator for Regulatory Programs, National Marine Fisheries Service.

[FR Doc. 2016-07971 Filed 4-6-16; 8:45 am]

BILLING CODE 3510-22-P